DEPARTMENT OF JUSTICE

Drug Enforcement Administration

[Docket No. DEA-743]

Bulk Manufacturer of Controlled Substances Application: Novitium Pharma LLC

AGENCY: Drug Enforcement Administration, Justice.

ACTION: Notice of application.

SUMMARY: Novitium Pharma LLC has applied to be registered as a bulk manufacturer of basic class(es) of controlled substance(s). Refer to Supplemental Information listed below for further drug information.

DATES: Registered bulk manufacturers of the affected basic class(es), and applicants therefore, may file written comments on or objections to the issuance of the proposed registration on or before January 26, 2021. Such persons may also file a written request for a hearing on the application on or before January 26, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on November 2, 2020, Novitium Pharma LLC, 70 Lake Drive, East Windsor, New Jersey 08520, applied to be registered as a bulk manufacturer of the following basic class(es) of controlled substances:

Controlled substance | Drug code | Schedule
Levorphanol | 9220 | II

The company plans to bulk manufacture the above-controlled substance to support production of the company's Food and Drug Administration approved drug product. No other activity for this drug code is authorized for this registration.

William T. McDermott,
Assistant Administrator.

[FR Doc. 2020-26171 Filed 11-25-20; 8:45 am]

BILLING CODE P